DEPARTMENT OF HOMELAND SECURITY

Coast Guard

33 CFR Part 165

[Docket No. USCG-2015-0537]

Safety Zones; Annual Events in the Captain of the Port Detroit Zone

AGENCY: Coast Guard, DHS.

ACTION: Notice of enforcement of regulation.

SUMMARY: The Coast Guard will enforce various safety zones for annual marine events in the Captain of the Port Detroit zone from 8 a.m. on June 19, 2015, through 10:45 p.m. on June 27, 2015. Enforcement of these zones is necessary and intended to ensure safety of life on the navigable waters immediately prior to, during, and immediately after these fireworks events. During the aforementioned period, the Coast Guard will enforce restrictions upon, and control movement of, vessels in a specified area immediately prior to, during, and immediately after fireworks events. During each enforcement period, no person or vessel may enter the respective safety zone without permission of the Captain of the Port.

DATES: The regulations in 33 CFR 165.941 will be enforced at various dates and times between 8 a.m. on June 19, 2015, through 10:45 p.m. on June 27, 2015.

FOR FURTHER INFORMATION CONTACT: If you have questions on this document, call or email PO1 Todd Manow, Prevention, U.S. Coast Guard Sector Detroit, 110 Mount Elliot Ave., Detroit, MI 48207; telephone (313) 568-9580; email Todd.M.Manow@uscg.mil.

SUPPLEMENTARY INFORMATION: The Coast Guard will enforce the safety zones listed in 33 CFR 165.941, Safety Zones; Annual Events in the Captain of the Port Detroit Zone, at the following dates and times for the following events, which are listed in chronological order by date and time of the event:

(3) Ford (formerly Target) Fireworks, Detroit, MI. The first safety zone, listed in 33 CFR 165.941(a)(50)(i)(A), all waters of the Detroit River bounded by the arc of a circle with a 900-foot radius with its center in position 42°19′23″ N., 083°04′34″ W., on the waterfront area adjacent to 1351 Jefferson Avenue, Detroit, Michigan will be enforced from 8 a.m. on June 19, 2015 to 8 p.m. on June 22, 2015.

The second safety zone, listed in 33 CFR 165.941(a)(50)(i)(B), a portion of the Detroit River bounded on the South by the International Boundary line, on the West by 083°03′30″ W., on the North by the City of Detroit shoreline and on the East by 083°01′15″ W., will be enforced from 8 p.m. to 11:55 p.m. on June 22, 2015.

The third safety zone listed in 33 CFR 165.941(a)(50)(i)(C), a portion of the Detroit River bounded on the South by the International Boundary line, on the West by the Ambassador Bridge, on the North by the City of Detroit shoreline, and on the East by the downstream end of Belle Isle, will be enforced from 6 p.m. to 11:59 p.m. on June 22, 2015.

(2) Bay-Rama Fishfly Festival Fireworks, New Baltimore, MI. The safety zone listed in 33 CFR 165.941(a)(29), all waters of Lake St. Clair-Anchor Bay, off New Baltimore City Park, within a 300-yard radius of the fireworks launch site located at position 42°41′ N., 082°44′ W. (NAD 83), usually on an evening during the first week in June, will be enforced from 9 p.m. to 11 p.m. on June 25, 2015.

(3) BASF Corporation (formerly the City of Wyandotte) Fireworks, Wyandotte, MI. The safety zone listed in 33 CFR 165.941(a)(34), usually on an evening during the first week in July, will instead be enforced from 10:15 p.m. to 10:45 p.m. on June 26, 2015. In case of inclement weather on June 26, 2015, this safety zone will be enforced from 10:15 p.m. to 10:45 p.m. on June 27, 2015. The fireworks launch site is located on a barge 1000 feet offshore from the BASF property in Wyandotte, MI at position 42°12.75′ N., 082°08.25′ W. The safety zone is all waters of the Detroit River within a 300-yard radius of the fireworks launch site.

(4) St. Clair Shores Fireworks, St. Clair Shores, MI.

The safety zone listed in 33 CFR 165.941(a)(39), all waters of Lake St. Clair within a 300-yard radius of the fireworks barge located at position 42°32′ N., 082°51′ W. (NAD 83). This position is located 1000 yards east of Veteran's Memorial Park, St. Clair Shores, and will be enforced from 10 p.m. to 10:45 p.m. on June 26, 2015. In the case of inclement weather on June 26, 2015, this safety zone will be enforced from 10 p.m. to 10:45 p.m. on June 27, 2015.

Under the provisions of 33 CFR 165.23, entry into, transiting, or anchoring within these safety zones during the enforcement period is prohibited unless authorized by the Captain of the Port Detroit or his designated representative. Vessels that wish to transit through the safety zones may request permission from the Captain of the Port Detroit or his designated representative. Requests must be made in advance and approved by the Captain of Port before transits will be authorized. Approvals will be granted on a case by case basis. The Captain of the Port may be contacted via U.S. Coast Guard Sector Detroit on channel 16, VHF-FM. The Coast Guard will give notice to the public via Local Notice to Mariners and VHF radio broadcasts that the regulation is in effect.

This document is issued under authority of 33 CFR 165.941 and 5 U.S.C. 552(a). If the Captain of the Port determines that any of these safety zones need not be enforced for the full duration stated in this document, he or she may suspend such enforcement and notify the public of the suspension via a Broadcast Notice to Mariners.

Dated: June 12, 2015.
Raymond Negron,
Commander, U.S. Coast Guard, Acting Captain of the Port Detroit.

[FR Doc. 2015-15755 Filed 6-25-15; 8:45 am]

BILLING CODE 9110-04-P